NUCLEAR REGULATORY COMMISSION

[Docket No. 71-6703]

General Atomics Model No. Rg-1 Package; Issuance of Environmental Assessment and Finding of No Significant Impact Regarding a Proposed Exemption

The U.S. Nuclear Regulatory Commission (NRC or Commission) is considering issuance of an exemption, pursuant to 10 CFR 71.8, from certain requirements of 10 CFR 71.38 “Renewal of a certificate of compliance or quality assurance program approval” to General Atomics Company. The exemption would permit renewal of Certificate of Compliance No. 6703 for the Model No. RG-1 radioactive material transportation package even though General Atomics Company, the certificate holder, did not request renewal at least 30 days before the expiration of the Certificate of Compliance. Therefore, as required by 10 CFR 51.21, the NRC is issuing this Environmental Assessment and Finding of No Significant Impact.

Environmental Assessment (EA)

Identification of the Proposed Action: Requirements for renewal of a certificate of compliance are specified in 10 CFR 71.38. Specifically, 10 CFR 71.38(b) states:

In any case in which a person, not less than 30 days before the expiration of an existing Certificate of Compliance or Quality Assurance Program Approval issued pursuant to the part, has filed an application in proper form for renewal of either of those approvals, the existing Certificate of Compliance or Quality Assurance Program Approval for which the renewal application was filed shall not be deemed to have expired until final action on the application for renewal has been taken by the Commission.

Certificate of Compliance No. 6703, Revision No. 5, expired on May 31, 1990. General Atomics Company requested renewal on May 29, 1990. Although the renewal application was dated before the certificate expiration date, it was not at least 30 days before expiration. The certificate was deemed to have expired on May 31, 1990, and NRC terminated use of the package by letter dated June 13, 1990, stating that the termination was due to the late filing of the application.

General Atomics Company by application dated February 26, 2004, has again requested renewal of Certificate of Compliance No. 6703. Although this renewal application from General Atomics Company is not timely, as defined in 71.38(b), NRC proposes to renew Certificate of Compliance No. 6703 for approximately an 18-month period to authorize use of the package for the limited shipments identified in the renewal application.

The Model No. RG-1 package is a radioisotope thermoelectric generator (RTG). It is approximately cylindrical, is 18 inches high, and has a base diameter of 14 inches. The package incorporates a fixed radioactive source within a main housing that is closed by a bolted closure flange. The radioactive source is a maximum 8,300 curies of strontium-90 titanate doubly encapsulated in a Type 304L stainless steel liner and Hastelloy C capsule. The thermoelectric module, that converts the radioactive heat source into low voltage electrical power, and uranium and tungsten shields are also fixed within the main housing. The package has an electrical connector, top end lifting lugs, and a bottom flange used for package tie-down. The device is designed to be transported and operated as an integral unit. It is designed for marine use at sea depths which may result in external pressures up to 10,000 psi. The package weighs approximately 800 pounds.

The Need for the Proposed Action: The proposed exemption would allow renewal of Certificate of Compliance No. 6703 for the Model No. RG-1 package for a limited period of time (approximately 18 months) for the purpose of authorizing the shipment of two packages from the General Atomics Company site in San Diego, California, to the Los Alamos National Laboratory in Los Alamos, New Mexico, for storage and final disposition.

Environmental Impacts of the Proposed Action: Continued use of certain Type B packages previously-approved by the NRC (including the Model No. RG-1 package) is authorized under general license by the provisions in 71.13(a). Section 71.13 includes several restrictions with respect to continued use of these packages, including limited fabrication of new units (71.13(a)(1)) and limited modifications to the package that can be authorized (71.13(c)). Renewal of Certificate of Compliance No. 6703 would allow continued use of this package, subject to the conditions specified in 71.13, the general license provisions of 71.12, and the Certificate of Compliance.

The Certificate of Compliance will be renewed for approximately an 18-month term that will expire on September 30, 2005. The following condition will be included in the renewed certificate:

This certificate authorizes a one-time shipment from General Atomics Company site in San Diego, California, to the Los Alamos National Laboratory in Los Alamos, New Mexico, for two packages (Serial Nos. -001 and -002).

The potential environmental impact of transporting radioactive material pursuant to 10 CFR part 71 was initially presented in the “Final Environmental Statement on the Transportation of Radioactive Material by Air and Other Modes,” for the proposed rule to amend 10 CFR part 71 (40 FR 23768(1977)). The environmental statement was published in 1977 as NUREG-0170, Volumes 1 and 2. A categorical exclusion for transportation package approvals is given in 10 CFR 51.22(c)(13).

NUREG-0170 included an evaluation of environmental impacts from three parts: The radiological impact from normal, incident-free transport, the risk of radiological effects from accidents involving vehicles carrying radioactive materials, and all non-radiological impacts. The principal unavoidable environmental effect was found to be the population exposure resulting from normal transport of radioactive materials. The much smaller risk from accidents that have the potential for releasing radioactive material from packages will always be present, but such accidents have a very small probability of occurrence. The calculated, unavoidable non-radiological impact resulting from transport amounts to about two injuries and one fatality every five years, from transportation accidents from all radioactive material transport. Other non-radiological impacts such as the use of vehicle fuel and other resources were found to be insignificant. The assessment included impacts due to shipments such as the RG-1 package, that is, shipment of sealed, industrial sources within accident-resistant packages.

The RG-1 package design was originally approved by NRC on November 28, 1972. The Certificate of Compliance was subsequently renewed on January 23, 1975; February 6, 1980; and May 30, 1985. Although the renewal application in 1990 was filed late, there is no indication that the renewal request would have been denied if the application had been timely. No specific design or safety problems were identified as contributing to the decision not to renew the certificate. Because it considered shipments similar to the shipments proposed in the RG-1 package, it is concluded that the environmental impacts of the proposed action would not change the potential environmental effects assessed in the 10 CFR part 71 rulemaking (40 FR 23768 (1977)). Therefore, the NRC has determined that there will be no significant environmental impacts as a result of approving the exemption for the one-time shipments of the two Model No. RG-1 packages.

Alternatives to the Proposed Action: The following alternatives were identified that could eliminate the need for an exemption to 71.38. The identified alternatives are: (1) Denial of the exemption request (i.e., the “no-action” alternative), (2) repackaging the radioactive sources in an alternative, certified transportation package, and (3) repackaging the RG-1 device within a certified transportation package i.e., overpacking the RG-1 package).

The no-action alternative would result in the sources remaining at the current location for the indefinite future, since funding for recovery of these sources is currently available, but may not continue to be available indefinitely. This alternative would increase the likelihood of loss of control of this radioactive material that is currently stored at some expense from a facility that no longer has a use for this material. It is judged that the sources would eventually need to be transported from the facility, in which case any environmental impacts associated with transport will also be incurred. Therefore, it is concluded that the no-action alternative is not desirable and does not reduce environmental impact.

General Atomics Company has stated that it knows of no currently-certified packagings that could be readily made available and used to transport the sources. Other packages designed for the transport of RTG sources are not suitable and cannot be used for transporting sources designed for the RG-1 package. This is because the sources and transport package, which also serves as the RTG device housing and radiation shield, are designed as an integral unit and are not intended to be separated for the useful lifetime of the source. Other transportation packages that could be used for these sources would likely need design modifications to safely accommodate these sources, and the certificates of compliance for these alternative packages would almost certainly require amendment to authorize these specific sources. These design and certificate changes would constitute a lengthy and expensive process that would not result in an increase in safety for these shipments. Transferring the sources from the RG-1 package would also require handling the “bare” sources, that is, handling the sources outside of the package's radiation shielding. This process can be accomplished; however, it is an evolution that presents significant safety risk and potential radiation exposure to workers. In addition, General Atomics Company has decommissioned and dismantled its hot cell facility, which would further complicate source removal. It is judged to be desirable from a safety and environmental impact perspective to limit the handling of the sources outside the shielded configuration.

Handling the bare sources would not be required if the RG-1 package could be placed within another certified transportation package. However, a package that can accommodate the RG-1 package and is authorized for transport of the type of source in the RG-1 package does not currently exist.

It is therefore concluded that safety is enhanced if the RG-1 package is expeditiously shipped intact with its integral sources.

Agencies and Persons Consulted: On March 1, 2004, Mr. Richard Boyle, Chief of the Radioactive Materials Branch of the U.S. Department of Transportation, Office of Hazardous Materials Technology, was contacted about the EA for the proposed action and had no comments. In addition, on March 1, 2004, Mr. James Shuler, Health Physicist, Office of Environmental Management, U.S. Department of Energy, was also contacted and had no comments. The NRC has determined that a consultation under section 7 of the Endangered Species Act is not required because the proposed action is administrative/procedural in nature and will not affect listed species or critical habitat. The NRC has also determined that the proposed action is not a type of activity having the potential to cause effects on historic properties because it is an administrative/procedural action. Therefore, no further consultation is required under section 106 of the National Historic Preservation Act.

Conclusion: Granting the exemption to the timely-renewal provision that authorizes the shipments proposed in the Model No. RG-1 package will result in insignificant environmental impact. These shipments fall well within the number and types of shipments considered in NUREG-0170, which found that the transportation of radioactive materials in the U.S. results in acceptably small radiological and non-radiological impacts.

Sources Used:

1. General Atomics application dated February 26, 2004, ML040650103.

2. “Final Environmental Statement on the Transportation of Radioactive Material by Air and Other Modes,” NUREG-0170, Vols. 1 and 2, U.S. Nuclear Regulatory Commission, Washington, DC, December 1977, ML022590265.

Finding of No Significant Impact

The environmental impacts of the proposed action have been reviewed in accordance with the requirements set forth in 10 CFR part 51. Based upon the foregoing EA, the Commission finds that the proposed action of granting an exemption to 10 CFR 71.38(b) by renewing Certificate of Compliance No. 6703 for limited shipments without a timely application being filed will not significantly impact the quality of the human environment. Accordingly, the Commission has determined that a Finding of No Significant Impact is appropriate, and that an environmental impact statement for the proposed exemption is not necessary.

For further details with respect to the exemption request, see the General Atomics Company renewal application dated February 26, 2004. The renewal request and request for exemption was docketed under 10 CFR part 71, Docket No. 71-6703. These documents are available for public inspection at the Commission's Public Document Room, One White Flint North Building, 11555 Rockville Pike, Rockville, MD, or from the publicly available records component of NRC's Agencywide Documents Access and Management System (ADAMS). These documents may be accessed through the NRC's Public Electronic Reading Room on the Internet at http://www.nrc.gov/reading-rm/adams.html. If there are problems in accessing the documents located in ADAMS, contact the NRC Public Document Room (PDR) Reference staff at 1-800-397-4209, 301-415-4737 or by e-mail at pdr@nrc.gov.

Dated in Rockville, Maryland, this 3rd day of March, 2004.
For the Nuclear Regulatory Commission.
Nancy L. Osgood,
Senior Project Manager, Spent Fuel Project Office, Office of Nuclear Material Safety and Safeguards.

[FR Doc. E4-554 Filed 3-12-04; 8:45 am]

BILLING CODE 7590-01-P